DEPARTMENT OF LABOR

Employment and Training Administration

[TA-W-72,121]

General Motors Company Formerly Known as General Motors Corporation Technical Center Including On-Site Leased Workers From Aerotek, Bartech Group, CDI Professional Services, EDS/HP Enterprise Services, Engineering Labs, Inc., Global Technology Associates Limited, G-Tech Professional Staffing, Inc., Jefferson Wells, Kelly Services, Inc., Optimal, Inc., Populus Group, RCO Engineering, Inc., Tek Systems, Modern Engineering/Professional Services and General Physics Corporation Excluding Workers of the Global Purchasing and Supply Chain Division, Warren, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 30, 2010, applicable to workers of General Motors Company, formerly known as General Motors Corporation, Technical Center, including on-site leased workers from Aerotek, Bartech Group, EDI Professional Services, EDS/HP Enterprise Services, Engineering Labs, Inc., Global Technology Associates Limited, G-Tech Professional Staffing, Inc., Jefferson Wells, Kelly Services, Inc., Optimal, Inc., Populus Group, RCO Engineering, Inc., and Tek Systems, excluding workers of the Global Purchasing and Supply Chain Division, Warren, Michigan. The notice was published in the Federal Register on May 28, 2010 (75 FR 30070). The notice was amended on December 6, 2010 to include on-site leased workers from Modern Engineering/Professional Services. The notice was published in the Federal Register on December 13, 2010 (75 FR 77666).

At the request of the state, the Department reviewed the certification for workers of the subject firm. The workers are engaged in the engineering and other technical support of automotive production at affiliated plants.

The company reports that workers leased from General Physics Corporation were employed on-site at the Warren, Michigan location of General Motors Company, formerly known as General Motors Corporation, Technical Center. The Department has determined that on-site workers from General Physics Corporation were sufficiently under the control of General Motors Company, formerly known as General Motors Corporation, Technical Center to be considered leased workers.

Based on these findings, the Department is amending this certification to include workers leased from General Physics Corporation working on-site at the Warren, Michigan location of General Motors Company, formerly known as General Motors Corporation, Technical Center.

The amended notice applicable to TA-W-72,121 is hereby issued as follows:

All workers General Motors Company, formerly known as General Motors Corporation, Technical Center, including on-site leased workers from Aerotek, Bartech Group, CDI Professional Services, EDS/HP Enterprise Services, Engineering Labs, Inc., Global Technology Associates Limited, G-Tech Professional Staffing, Inc., Jefferson Wells, Kelly Services, Inc., Optimal, Inc., Populus Group, RCO Engineering, Inc., Tek Systems, Modern Engineering/Professional Services, and General Physics Corporation, excluding workers of the Global Purchasing and Supply Chain Division, Warren, Michigan, who became totally or partially separated from employment on or after August 14, 2008, through April 30, 2012, and all workers in the group threatened with total or partial separation from employment on the date of certification through two years from the date of certification, are eligible to apply for adjustment assistance under Chapter 2 of Title II of the Trade Act of 1974, as amended.

Signed at Washington, DC, January 13, 2011.
Michael W. Jaffe,
Certifying Officer, Office of Trade Adjustment Assistance.

[FR Doc. 2011-1618 Filed 1-25-11; 8:45 am]

BILLING CODE 4510-FN-P